DEPARTMENT OF ENERGY

Federal Energy Regulatory Commission

[Docket No. CP93-541-013]

Young Gas Storage Company, Ltd; Notice of Intent To Prepare an Environmental Assessment for the Proposed Young Storage Project and Request for Comments on Environmental Issues

January 23, 2004.

The staff of the Federal Energy Regulatory Commission (FERC or Commission) will prepare an environmental assessment (EA) that will discuss the environmental impacts of the Young Storage Project involving construction and operation of facilities by Young Gas Storage Company, Ltd (Young) in Morgan County, Colorado.¹ These facilities would consist of:

¹ Young's application was filed with the Commission under section 7 of the Natural Gas Act and part 157 of the Commission's regulations.

• 3 horizontally drilled injection/withdrawal wells (Wells 43, 44, and 45);

• Facilities associated with each well that include a surface wellhead and associated filters/separators, orifice meter, catalytic heater, and methanol injection/storage tanks with concrete footers;

• 600 feet of 6-inch-diameter steel gas pipeline;

• 1,090 feet of 4-inch-diameter steel gas pipeline;

• 1,090 feet of 2-inch-diameter poly instrument pipeline; and

• 1,090 feet of 2-inch-diameter fiberglass drainline pipeline.

This EA will be used by the Commission in its decision-making process to determine whether the project is in the public convenience and necessity.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Young provided to landowners. This fact sheet addresses a number of typically asked questions, including the use of eminent domain and how to participate in the Commission's proceedings. It is available for viewing on the FERC Internet Web site (http://www.ferc.gov).

Summary of the Proposed Project

Young has analyzed the operation of the Young Storage Field and determined that water has been displaced and produced from the storage field during the 8 years of its operation. This has increased the pore space available for gas storage. The increased space has caused storage pressures to decrease below the pressure contemplated when the field was designed. The storage field has also expanded into areas that cannot be effectively drained by the existing wells. The reduced pressure and reservoir expansion have reduced deliverability from the field.

Young wants to drill there injection/withdrawal wells to better access certain areas within the existing Young Storage Field. It would also construct pipeline and related facilities to connect these new wells to its existing storage field pipeline system. The storage capacity and withdrawal capability of the Young Storage Field would not be increased above the presently certificated volumes (10 billion cubic feet and 198,813 thousand cubic feet per day, respectively) by construction and operation of the proposed facilities. Young also proposes to expand the protection zone for the storage field.

Young would also reclassify two existing injection/withdrawal wells (Wells 24 and 39) as observation wells.

Young also proposes to conduct a reservoir testing program to evaluate the possibility of increasing gas deliverability from the storage field as it drills the proposed new injection/withdrawal wells.

The location of the project facilities is shown in appendix 1.²

² The appendices referenced in this notice are not being printed in the Federal Register. Copies are available on the Commission's Internet Web site (http://www.ferc.gov) at the “eLibrary” link or from the Commission's Public Reference and Files Maintenance Branch at (202) 502-8371. For instructions on connecting to eLibrary refer to the last page of this notice.

Land Requirements for Construction

Construction of the proposed facilities would require about 6.8 acres of land. Following construction, about 2.2 acres would be maintained for operation of the new facilities. The remaining 4.6 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. This process is referred to as “scoping”. The main goal of the scoping process is to focus the analysis in the EA on the important environmental issues. By this notice of intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils;

• Land use;

• Ground water;

• Cultural resources;

• Vegetation and wildlife;

• Air quality and noise;

• Endangered and threatened species;

• Public safety.

We will not discuss impacts to the following resource areas since they are not present in the project area, or would not be affected by the proposed facilities.

• Surface water;

• Wetlands;

• Fisheries;

• Residential areas;

• Federal, State, or local parks, forests, trails, scenic highways, wild and scenic rivers, nature preserves, wildlife refuges, wilderness areas, game management areas, or other designated natural, recreational, or scenic areas registered as natural landmarks;

• Native American reservations; or

• Coastal zone management areas.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission(s official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Young. This preliminary list of issues may be changed based on your comments and our analysis.

• A total of 6.77 acres of agricultural land and pasture would be affected by the project.

• Three horizontally drilled wells would be constructed.

Public Participation

You can make a difference by providing us with your specific comments or concerns about the project. By becoming a commentor, your concerns will be addressed in the EA and considered by the Commission. You should focus on the potential environmental effects of the proposal, alternatives to the proposal including alternative well locations and pipeline routes, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP93-541-013.

• Mail your comments so that they will be received in Washington, DC on or before February 23, 2004.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.”

We may mail the EA for comment. If you are interested in receiving it, please return the Information Request (appendix 4). If you do not return the Information Request, you will be taken off the mailing list.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission(s rules of practice and procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in appendix 3, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at FERConlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-165 Filed 2-2-04; 8:45 AM]

BILLING CODE 6717-01-P